DEPARTMENT OF COMMERCE

International Trade Administration

[C-489-854, C-570-175]

Certain Brake Drums From the People's Republic of China and the Republic of Türkiye: Countervailing Duty Orders

AGENCY: Enforcement and Compliance, International Trade Administration, Department of Commerce.

SUMMARY: Based on affirmative final determinations by the U.S. Department of Commerce (Commerce) and the U.S. International Trade Commission (ITC), Commerce is issuing countervailing duty (CVD) orders on certain brake drums (brake drums) from the People's Republic of China (China) and the Republic of Türkiye (Türkiye).

DATES: Applicable August 12, 2025.

FOR FURTHER INFORMATION CONTACT: Charles Doss (Türkiye), Office III; telephone: (202) 482-4474; and Nathan James (China), Office V, telephone: (202)-482-5305; AD/CVD Operations, Enforcement and Compliance, International Trade Administration, U.S. Department of Commerce, 1401 Constitution Avenue NW, Washington, DC 20230.

SUPPLEMENTARY INFORMATION:

Background

On June 18, 2025, Commerce published in the Federal Register its affirmative final determinations in the CVD investigations of brake drums from China and Türkiye.¹ On August 4, 2025, the ITC notified Commerce of its final determinations, pursuant to section 705(d) of the Tariff Act of 1930, as amended (the Act), that an industry in the United States is materially injured within the meaning of section 705(b)(1)(A)(i) of the Act by reason of imports of brake drums from China and Türkiye.²

¹ See Certain Brake Drums from the People's Republic of China: Final Affirmative Countervailing Duty Determination, 90 FR 26002 (June 18, 2025); and Certain Brake Drums from the Republic of Türkiye: Final Affirmative Countervailing Duty Determination, 90 FR 26008 (June 18, 2025) (collectively, Final Determinations).

² See ITC's Letter, Investigation Nos. 701-TA-729-730 and 731-TA-1698-1699 (Final), dated August 4, 2025.

Scope of the Orders

The products covered by these orders are brake drums from China and Türkiye. For a complete description of the scope of these orders, see the appendix to this notice.

Countervailing Duty Orders

Based on the affirmative final determinations by the ITC that an industry in the United States is materially injured by reason of subsidized imports of brake drums from China and Türkiye,³ in accordance with sections 705(c)(2) and 706(a) of the Act, Commerce is issuing these CVD orders. Because the ITC determined that imports of brake drums from China and Türkiye are materially injuring a U.S. industry, unliquidated entries of such merchandise entered, or withdrawn from warehouse, for consumption, are subject to the assessment of countervailing duties.

³ Id.

Therefore, in accordance with section 706(a) of the Act, Commerce will direct CBP to assess, upon further instructions by Commerce, countervailing duties on unliquidated entries of brake drums from China and Türkiye, or withdrawn from warehouse, for consumption on or after December 3, 2024, the date of publication of the Preliminary Determinations,⁴ but will not include entries occurring after the expiration of the provisional measures period and before the publication of the ITC's final injury determination under section 705(b) of the Act, as further described below.

⁴ See Certain Brake Drums from the People's Republic of China: Preliminary Affirmative Countervailing Duty Determination and Alignment of Final Determination with Final Antidumping Duty Determination, 89 FR 95744 (December 3, 2024); and Certain Brake Drums from the Republic of Türkiye: Preliminary Affirmative Countervailing Duty Determination and Alignment of Final Determination with Final Antidumping Duty Determination, 89 FR 95740 (December 3, 2024) (collectively, Preliminary Determinations).

Suspension of Liquidation and Cash Deposits

In accordance with section 706 of the Act, Commerce intends to instruct CBP to reinstitute the suspension of liquidation of brake drums from China and Türkiye, effective on the date of publication of the ITC's final affirmative injury determination in the Federal Register, and to assess, upon further instruction by Commerce, pursuant to section 706(a)(1) of the Act, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.⁵ The all-others rates apply to all producers or exporters not specifically listed below, as appropriate.

⁵ See section 706(a)(3) of the Act.

Estimated Countervailable Subsidy Rates

The estimated countervailable subsidy rates are as follows:

China

Company | Subsidy rate (percent ad valorem)
CAIEC Trailer Master Co., Ltd./Trailer Master CVS Inc | * 446.83
Shandong ConMet Mechanical, Ltd./Weifang ConMet Mechanical Products Co., Ltd | * 11.94
Guangzhou Joyhand Import & Export Co | * 446.83
Hebei Iruijin Auto Parts Co., Ltd | * 446.83
Henan Broad Top Metal Work, Llc | * 446.83
Henan Valiant Braking System Co | * 446.83
HTS (Tianjin) Supply Chain Co., Ltd | * 446.83
Panasia CVS (HK), Ltd | * 446.83
Raw King Brake Parts Co., Ltd | * 446.83
Tianjin Textile Group Import and Export Inc | * 446.83
Xiamen Tinmy Industrial Co., Ltd | * 446.83
Xingtai Xunchiyoute Auto Parts Co | * 446.83
Yancheng Terbon Auto Parts Co | * 446.83
Yantai Hongtian Autoparts Co., Ltd | * 446.83
Zhejiang Firsd Group Co., Ltd | * 446.83
All Others | 11.94
* Rate based on facts available with adverse inferences.

Türkiye

Company | Subsidy rate (percent ad valorem)
EKU Fren ve Dok. San. A.S | 2.80
Akkus Dokum San.Ve Tic.Ltd.Sti | * 131.60
Buyuk Eker Bijon Sanayi Ve Ticaret | * 131.60
Genk Otomotiv San.Dis Tic.Ltd.Sti | * 131.60
All Others | 2.80
* Rate based on facts available with adverse inferences.

Provisional Measures

Section 703(d) of the Act states that the suspension of liquidation pursuant to an affirmative preliminary determination may not remain in effect for more than four months. In the underlying investigations, Commerce published the Preliminary Determinations on December 3, 2024.⁶ As such, the four-month period beginning on the date of the publication of the Preliminary Determinations ended on April 1, 2025. Therefore, entries of brake drums from China and Türkiye made on or after April 2, 2025, and prior to the date of publication of the ITC's final determinations in the Federal Register, are not subject to the assessment of countervailing duties due to Commerce's discontinuation of the suspension of liquidation.

⁶ See Preliminary Determinations.

In accordance with section 703(d) of the Act, Commerce instructed CBP to terminate the suspension of liquidation and to liquidate, without regard to countervailing duties, unliquidated entries of brake drums from China and Türkiye entered, or withdrawn from warehouse, for consumption, on or after April 2, 2025, the date on which the provisional CVD measures expired, through the day preceding the date of publication of the ITC final injury determinations in the Federal Register. Suspension of liquidation and the collection of cash deposits will resume on the date of publication of the ITC final injury determinations in the Federal Register.

Establishment of the Annual Inquiry Service Lists

On September 20, 2021, Commerce published the final rule titled “Regulations to Improve Administration and Enforcement of Countervailing and Countervailing Duty Laws” in the Federal Register.⁷ On September 27, 2021, Commerce also published the notice titled “Scope Ruling Application; Annual Inquiry Service List; and Informational Sessions” in the Federal Register.⁸ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁹

⁷ See Regulations to Improve Administration and Enforcement of Antidumping and Countervailing Duty Laws, 86 FR 52300 (September 20, 2021) (Final Rule).

⁸ See Scope Ruling Application; Annual Inquiry Service List; and Informational Sessions, 86 FR 53205 (September 27, 2021) (Procedural Guidance).

⁹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of an order. Each annual inquiry service list will be saved in ACCESS, under each case number, and under a specific segment type called “AISL-Annual Inquiry Service List.” ¹⁰

¹⁰ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹¹ Accordingly, as stated above, the petitioners and foreign governments should submit their initial entry of appearance after publication of this notice in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹¹ See Final Rule, 86 FR at 52335.

Notification to Interested Parties

This notice constitutes the CVD orders with respect to brake drums from China and Türkiye pursuant to section 706(a) of the Act. Interested parties can find a list of CVD orders currently in effect at https://www.trade.gov/data-visualization/adcvd-proceedings.

These CVD orders are published in accordance with section 706(a) of the Act and 19 CFR 351.211(b).

Dated: August 6, 2025.
Abdelali Elouaradia,
Deputy Assistant Secretary for Enforcement and Compliance.

Appendix

Scope of the Orders

The merchandise covered by these orders is certain brake drums made of gray cast iron, whether finished or unfinished, with an actual or nominal inside diameter of 14.75 inches or more but not over 16.6 inches, weighing more than 50 pounds. Unfinished brake drums are those which have undergone some turning or machining but are not ready for installation. Subject brake drums are included within the scope whether imported individually or with non-subject merchandise (for example, a hub), whether assembled or unassembled, or if joined with non-subject merchandise. When a subject drum is imported together with non-subject merchandise, such as, but not limited to, a drum-hub assembly, only the subject drum is covered by the scope.

Subject merchandise also includes finished and unfinished brake drums that are further processed in a third country or in the United States, including, but not limited to, assembly or any other processing that would not otherwise remove the merchandise from the scope of these orders if performed in the country of manufacture of the subject brake drums. The inclusion, attachment, joining, or assembly of non-subject merchandise with subject drums either in the country of manufacture of the subject drum or in a third country does not remove the subject drum from the scope. Specifically excluded is merchandise covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The scope also excludes composite brake drums that contain more than 38 percent steel by weight.

The merchandise covered by these orders is classifiable under Harmonized Tariff Schedule of the United States (HTSUS) subheading 8708.30.5020. The merchandise covered by these orders may be classifiable under HTSUS subheading 8708.30.5090 when entered as part of an assembly. Subject merchandise may also enter under HTSUS subheading 8716.90.5060, 8704.10, 8704.23.01, 8704.32.01, 8704.43.00, 8704.52.00, 8704.60.00, 8708.50.61, 8708.50.6500, 8716.90.5010, 8716.31.00, 8716.39.00, 8716.40.00. Although the HTSUS subheadings are provided for convenience and customs purposes, the written description of the merchandise covered by these orders is dispositive.

[FR Doc. 2025-15249 Filed 8-11-25; 8:45 am]

BILLING CODE 3510-DS-P